DEPARTMENT OF TRANSPORTATION

Federal Aviation Administration

14 CFR Part 33

[Docket No. FAA-2017-0586; Notice No. 33-17-01-SC]

Special Conditions: Safran Aircraft Engines, Silvercrest-2 SC-2D; Rated Takeoff Thrust at High Ambient Temperature

Correction

Proposed Rule document 2016-13305 appearing on pages 28788 through 28790 in the issue of Monday, June 26, 2017 was withdrawn from public inspection and published in error. It should be removed.

[FR Doc. C1-2017-13305 Filed 6-27-17; 8:45 am]

BILLING CODE 1505-01-D